DEPARTMENT OF THE TREASURY

48 CFR Chapter 10

RIN 1505-AC41

Department of the Treasury Acquisition Regulation; Internet Payment Platform; Correction

AGENCY: Office of the Procurement Executive, Treasury.

ACTION: Proposed rule; correction.

SUMMARY: This document contains corrections to a notice of proposed rulemaking, which was published in the Federal Register on Thursday, February 23, 2012 (77 FR 10714), relating to the Internet Payment Platform.

DATES: Comment due date: April 23, 2012.

FOR FURTHER INFORMATION CONTACT: Ronald Backes, Director, Acquisition Management, Office of the Procurement Executive, at (202) 622-5930 (this is not a toll-free number).

SUPPLEMENTARY INFORMATION:

Background

On February 23, 2012, the Department of the Treasury published a notice of proposed rulemaking that would amend the Department of the Treasury Acquisition Regulations to implement the Internet Payment Platform. As published, the notice of proposed rulemaking contains an error, which may prove to be misleading and is in need of clarification.

Correction of Publication

Accordingly, the publication of the notice of proposed rulemaking, FR Doc. 2012-4216, published February 23, 2012 at 77 FR 10714, is corrected as follows:

§ 1032.7003 [Corrected]

1. On page 10716, in the third column, in § 1032.7003, the date “October 1, 2011” is corrected to “October 1, 2012”.

Dated: February 24, 2012.
Ronald W. Backes,
Director, Acquisition Management, Office of the Procurement Executive.

[FR Doc. 2012-5242 Filed 3-2-12; 8:45 am]

BILLING CODE 4810-25-P